DEPARTMENT OF COMMERCE

Bureau of Industry and Security

15 CFR Part 744

[Docket No. 220120-0031]

RIN 0694-AI69

Revisions to the Unverified List

AGENCY: Bureau of Industry and Security, Commerce.

ACTION: Final rule.

SUMMARY: The Bureau of Industry and Security (BIS) is amending the Export Administration Regulations (EAR) by adding thirty-three (33) persons to the Unverified List (UVL). The thirty-three persons are added to the UVL on the basis that BIS was unable to verify their bona fides because an end-use check could not be completed satisfactorily for reasons outside the U.S. Government's control.

DATES: This rule is effective: February 8, 2022.

FOR FURTHER INFORMATION CONTACT: Linda Minsker, Director, Office of Enforcement Analysis, Phone: (202) 482-4255 or by email at UVLRequest@bis.doc.gov.

SUPPLEMENTARY INFORMATION:

Background

The Unverified List, found in supplement no. 6 to part 744 of the EAR (15 CFR parts 730 through 774), contains the names and addresses of foreign persons who are or have been parties to a transaction, as such parties are described in § 748.5 of the EAR, involving the export, reexport, or transfer (in-country) of items subject to the EAR, and whose bona fides (i.e., legitimacy and reliability relating to the end use and end user of items subject to the EAR) BIS has been unable to verify through an end-use check. BIS may add persons to the UVL when BIS or Federal officials acting on BIS's behalf have been unable to verify a foreign person's bona fides because an end-use check, such as a pre-license check (PLC) or a post-shipment verification (PSV), cannot be completed satisfactorily for reasons outside the U.S. Government's control.

There are occasions when, for a number of reasons, including but not limited to reasons unrelated to the cooperation of the foreign party subject to the end-use check, end-use checks cannot be completed. For example, BIS sometimes initiates end-use checks but is unable to complete them because the foreign party cannot be found at the address indicated on the associated export documents and BIS cannot locate the party by telephone or email. Additionally, BIS sometimes is unable to conduct end-use checks when host government agencies do not respond to requests to conduct end-use checks, prevent the scheduling of such checks, or refuse to schedule them in a timely manner. Under circumstances such as these, although BIS has an interest in informing the public of its inability to verify the foreign party's bona fides, there may not be sufficient information to add the foreign person at issue to the Entity List under § 744.11 of the EAR (Criteria for revising the Entity List). In such circumstances, BIS may add the foreign person to the UVL.

Furthermore, BIS sometimes conducts end-use checks but cannot verify the bona fides of a foreign party. For example, BIS may be unable to verify bona fides if, during the conduct of an end-use check, a recipient of items subject to the EAR is unable to produce the items that are the subject of the end-use check for visual inspection or provide sufficient documentation or other evidence to confirm the disposition of the items. The inability of foreign persons subject to end-use checks to demonstrate their bona fides raises concerns about the suitability of such persons as participants in future exports, reexports, or transfers (in-country) of items subject to the EAR and indicates a risk that such items may be diverted to prohibited end uses and/or end users. However, BIS may not have sufficient information to establish that such persons are involved in activities described in part 744 or 746 of the EAR, preventing the placement of the persons on the Entity List. In such circumstances, the foreign persons may be added to the UVL.

As provided in § 740.2(a)(17) of the EAR, the use of license exceptions for exports, reexports, and transfers (in-country) involving a party or parties to the transaction who are listed on the UVL is suspended. Additionally, under § 744.15(b) of the EAR, there is a requirement for exporters, reexporters, and transferors to obtain (and maintain a record of) a UVL statement from a party or parties to the transaction who are listed on the UVL before proceeding with exports, reexports, and transfers (in-country) to such persons, when the exports, reexports and transfers (in-country) are not subject to a license requirement.

Requests for the removal of a UVL entry must be made in accordance with § 744.15(d) of the EAR. Decisions regarding the removal or modification of UVL entry will be made by the Deputy Assistant Secretary for Export Enforcement, based on a demonstration by the listed person of its bona fides.

Changes to the EAR

Supplement No. 6 to Part 744 (“the Unverified List” or “UVL”)

Along with the additions to the UVL detailed below, this rule also changes the country name of “China” in the first column of the UVL to the “People's Republic of China.” This change reflects how China is described in the Entity List and Military End-User List, both supplements to part 744. This rule adds thirty-three persons to the UVL by amending Supplement No. 6 to part 744 of the EAR to include their names and addresses. BIS is adding these persons pursuant to § 744.15(c) of the EAR, on the basis that BIS could not verify their bona fides because an end-use check on transactions subject to the EAR in which these persons were parties could not be completed satisfactorily for reasons outside the U.S. Government's control. This final rule implements the decision to add the following thirty-three persons located in China to the UVL:

China, People's Republic of:

1. AECC South Industry Co., Ltd., Dongjiaduan, Lusong District, Zhuzhou, Hunan Province, China

2. Beijing SWT Science, Yingbinbei Road 36, Yanjiao Economic & Development Zone, Sanhe City, Hebei Province, China

3. Beijing Zhonghehangxun Technology Co., Ltd., Room 1705, Kaixuancheng Building E, No. 170 Beiyuan Road, Chaoyang District, Beijing, China

4. China National Erzhong Group Deyang Wanhang Die Forging Co., Ltd., No. 460 Zhujiang Road West, Deyang City, Sichuan Province, China

5. Chuzhou HKC Optoelectronics Technology Co., Ltd., No.101 Suchu Ave., Economic and Technological Development Zone, Nanqiao District, Chuzhou, Anhui Province 239000, China

6. Dongguan Durun Optical Technology Co., Ltd., Building M Shing'ang Industrial Area, Houda Road, Dalingshan, Dongguan, Guangdong Province 523000, China

7. Dongguan Huiqun Electronic Co., Ltd., 30 Daling Street, Jiaoyitang, Tangxia Town, Dongguan City, Guangdong Province 523723, China

8. Guangdong Guanghua Sci-Tech Co., No. 295 Daxue Road, Shantou, Guangdong Province, China

9. Guangxi Intai Technology Co., Ltd., 1 Jianan Road, Liuzhou City, Guangxi Province, China

10. Guangzhou Hymson Laser Tehnology Co., Ltd., No. 2 Shiling Road, Dongchong Town, Nansha District, Guangzhou, Guangdong Province 511453, China

11. Harbin Xinguang Feitian, 1717 Chuangxin Yi Road, Harbin, Heilongjiang Province, China

12. Hefei Anxin Reed Precision Co., Ltd., No. 15 South Feiyang Road, Dayang Industry Park, Luyang District, Hefei City, Anhui Province 230000, China

13. Heshan Deren Electronic Technology Co., Ltd., No. 13 Hongjiang Road, Heshan Industry City, Heshan City, Guangdong Province 529728, China

14. Hubei Longchang Optical Co., Ltd., No. 4 Group Lianhuayan Village, Yaojiadian Town, Yidu City, Hubei Province 44300, China

15. Hubei Sinophorus Electronic Materials Co., Ltd., No. 66-3, Xiaoting Road, Yichang, Hubei Province, China

16. Hunan University, State Key Lab of Chemo/Biosensing & Chemometrics, Lushan Road, Yuelu District, Changsha, Hunan Province, China

17. Jinan Bodor CNC Machine Co., Ltd., 1299 Xinluo Ave., Hi-Tech Zone, Jinan, Shandong Province, China

18. Jiutian Intelligent Equipment Co., Ltd., Woyun Road, Taohue Industry Park, Hefei Economic Zone, Hefei, Anhui Province, China

19. Kunshan Heng Rui Cheng Industrial Technology Co., Ltd., No. 1088 Datong Road, Penglang Town, Kunshan Development Zone, Kunshan, Jiangsu 215300, China

20. Shanghai Fansheng Optoelectronic Science & Technology Co., Ltd., No. 56 Jungong Road, Yangpu District, Shanghai, China

21. Shanghai Micro Electronics Equipment (Group) Co., Ltd., No. 1525 Zhangdong Road, Zhangjiang Hi-Tech Park, Pudong, Shanghai, China

22. Shuang Xiang (Fujian) Electronics, No. 158 Jiangbin East Ave., Mawei, Fuzhou, Fujian 350300, China

23. Southern University of Science and Technology, Department of Mechanical and Energy Engineering, 1088 Xueyuan Ave., Nanshan District, Shenzhen, Guangdong 518055, China

24. Suzhou Chaowei Jingna Optoelectric Co., Ltd., No. 97-1 Dongyuan Road, Jinting Town, Wuzhong District, Suzhou, Jiangsu, China

25. Suzhou Gyz Electronic Technology Co., Ltd., No. 629 Songjiagang Road, Zhoushi Town, Kunshan City, Jiangsu Province 215314, China

26. Suzhou Lylap Mould Technology Co., Ltd., No. 66-26 Linggang Road, Luzhi Town, Wuzhong District, Suzhou, Jiangsu Province, China

27. Wuxi Biologics Co., Ltd., No. 108, Warehouse, Meiliang Road, Mashan Binghu, Wuxi, China, and

No. 178 West Meiliang Road, Mashan Binghu District, Wuxi, China, and

No. 200 Meiling Road, Mashan Town, Binhu District, Wuxi City, China

28. Wuxi Biologics (Shanghai) Co., Ltd., Room 701, 7F, No. 02 Huajing Road, Waigaoqiao Free Trade Zone, Shanghai, China, and

Bldg. 71-B, 96 Yiwei Road, Waigaoqiao Free Trade Zone, Shanghai, China

29. Wuxi Turbine Blade Co., Ltd., 1800 Huishan Avenue, Huishan Economic Development District, Wuxi, Jiangsu Province, China

30. Yunnan Fs Optics Co., Ltd., Hongta Industrial Zone, Hongta District, Yuxi, Yunnan Province, China

31. Yunnan Tianhe Optoelectronic Co., Ltd., Longquan Avenue, Longquan Industrial Zone, Jiangchuan, Yuxi City, Yunnan Province, China

32. Zhengzhou Baiwai Intelligent Automation, National University Tech Park, Changchun Road, #11 Hi-Tech District, Zhengzhou City, Henan Province, China

33. Zhuzhou CRRC Special Equipment Technology Co., No. 79 Liancheng Road, Shifeng District, Zhuzhou City, Hunan Province 412001, China

Export Control Reform Act of 2018

On August 13, 2018, the President signed into law the John S. McCain National Defense Authorization Act for Fiscal Year 2019, which included the Export Control Reform Act of 2018 (ECRA), 50 U.S.C. 4801-4852. ECRA provides the legal basis for BIS's principal authorities and serves as the authority under which BIS issues this final rule.

Savings Clause

Shipments (1) removed from license exception eligibility or that are now subject to requirements in § 744.15 of the EAR as a result of this regulatory action; (2) eligible for export, reexport, or transfer (in-country) without a license before this regulatory action; and (3) on dock for loading, on lighter, laden aboard an exporting carrier, or en route aboard a carrier to a port of export, on February 8, 2022, pursuant to actual orders, may proceed to that UVL listed person under the previous license exception eligibility or without a license so long as the items have been exported from the United States, reexported or transferred (in-country) before March 11, 2022. Any such items not actually exported, reexported, or transferred (in-country) before midnight on March 10, 2022 are subject to the requirements in § 744.15 of the EAR in accordance with this regulation.

Rulemaking Requirements

Executive Order Requirements

Executive Orders 13563 and 12866 direct agencies to assess all costs and benefits of available regulatory alternatives and, if regulation is necessary, to select regulatory approaches that maximize net benefits (including potential economic, environmental, public health and safety effects, distribute impacts, and equity). Executive Order 13563 emphasizes the importance of quantifying both costs and benefits, of reducing costs, of harmonizing rules, and of promoting flexibility. This final rule has not been designated a “significant regulatory action” under Executive Order 12866.

This rule does not contain policies with federalism implications as that term is defined under Executive Order 13132.

Paperwork Reduction Act Requirements

Notwithstanding any other provision of law, no person is required to respond to, nor is subject to a penalty for failure to comply with, a collection of information, subject to the requirements of the Paperwork Reduction Act of 1995 (44 U.S.C. 3501 et seq.) (PRA), unless that collection of information displays a currently valid Office of Management and Budget (OMB) Control Number. This regulation involves collections previously approved by OMB under the following control numbers: 0694-0088, 0694-0122, 0694-0134, and 0694-0137.

This rule slightly increases public burden in a collection of information approved by OMB under control number 0694-0088, which authorizes, among other things, export license applications. The removal of license exceptions for listed persons on the Unverified List will result in increased license applications being submitted to BIS by exporters. Total burden hours associated with the Paperwork Reduction Act and OMB control number 0694-0088 are expected to increase minimally, as the removal of license exceptions will only affect transactions involving persons added to the Unverified List and not all export transactions. Because license exception eligibility is removed for these entities added to the UVL, this rule decreases public burden in a collection of information approved by OMB under control number 0694-0137 minimally, as this will only affect specific individual listed persons. The increased burden under 0694-0088 is reciprocal to the decreased burden under 0694-0137, and results in no change of burden to the public. This rule also increases public burden in a collection of information under OMB control number 0694-0122, as a result of the exchange of UVL statements between private parties, and under OMB control number 0694-0134, as a result of appeals from persons listed on the UVL for the addition of their listing. The total increase in burden hours associated with both of these collections is expected to be minimal, as they involve a limited number of persons listed on the UVL.

Any comments regarding these burden estimates or any other aspect of these collections of information, including suggestions for reducing the burden, may be submitted online at https://www.reginfo.gov/public/do/PRAMain. Find the particular information collection by using the search function and entering the OMB Control Number, 0694-0088, 0694-0122, 0694-0134, or 0694-0137.

Notwithstanding any other provision of law, no person is required to respond to, nor shall any person be subject to a penalty for failure to comply with a collection of information subject to the requirements of the PRA, unless that collection of information displays a currently valid OMB Control Number.

Administrative Procedure Act and Regulatory Flexibility Act Requirements

Pursuant to Section 4821 of ECRA, this action is exempt from the Administrative Procedure Act (5 U.S.C. 553) requirements for notice of proposed rulemaking and opportunity for public participation.

Further, no other law requires notice of proposed rulemaking or opportunity for public comment for this interim final rule. Because a notice of proposed rulemaking and an opportunity for public comment are not required under the Administrative Procedure Act or by any other law, the analytical requirements of the Regulatory Flexibility Act (5 U.S.C. 601 et seq.) are not applicable.

List of Subjects in 15 CFR Part 744

Exports, Reporting and recordkeeping requirements, Terrorism.

Accordingly, part 744 of the Export Administration Regulations (15 CFR parts 730 through 774) is amended as follows:

PART 744—[AMENDED]

1. The authority citation for 15 CFR part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 15, 2021, 86 FR 52069 (September 17, 2021); Notice of November 10, 2021, 86 FR 62891 (November 12, 2021).

2. Supplement No. 6 to part 744 is amended by:

a. Removing the country name of “CHINA” in the first column and adding “CHINA, PEOPLE'S REPUBLIC OF” in its place; and

b. Adding entities for “AECC South Industry Co., Ltd.,” “Beijing SWT Science,” “Beijing Zhonghehangxun Technology Co., Ltd.,” “China National Erzhong Group Deyang Wanhang Die Forging Co., Ltd.,” “Chuzhou HKC Optoelectronics Technology Co., Ltd.,” “Dongguan Durun Optical Technology Co., Ltd.,” “Dongguan Huiqun Electronic Co., Ltd.,” “Guangdong Guanghua Sci-Tech Co.,” “Guangxi Intai Technology Co., Ltd.,” “Guangzhou Hymson Laser Tehnology Co., Ltd.,” “Harbin Xinguang Feitian,” “Hefei Anxin Reed Precision Co., Ltd.,” “Heshan Deren Electronic Technology Co., Ltd.,” “Hubei Longchang Optical Co., Ltd.,” “Hubei Sinophorus Electronic Materials Co., Ltd.,” “Hunan University,” “Jinan Bodor CNC Machine Co., Ltd.,” “Jiutian Intelligent Equipment Co., Ltd.,” “Kunshan Heng Rui Cheng Industrial Technology Co., Ltd.,” “Shanghai Fansheng Optoelectronic Science & Technology Co., Ltd.,” “Shanghai Micro Electronics Equipment (Group) Co., Ltd.,” “Shuang Xiang (Fujian) Electronics,” “Southern University of Science and Technology,” “Suzhou Chaowei Jingna Optoelectric Co., Ltd.,” “Suzhou Gyz Electronic Technology Co., Ltd.,” “Suzhou Lylap Mould Technology Co., Ltd.,” “Wuxi Biologics Co., Ltd.,” “Wuxi Biologics (Shanghai) Co., Ltd.,” “Wuxi Turbine Blade Co., Ltd.,” “Yunnan Fs Optics Co., Ltd.,” “Yunnan Tianhe Optoelectronic Co., Ltd.,” “Zhengzhou Baiwai Intelligent Automation,” and “Zhuzhou CRRC Special Equipment Technology Co.” in alphabetical order under “CHINA, PEOPLE'S REPUBLIC OF”.

The additions read as follows:

SUPPLEMENT NO. 6 TO PART 744—UNVERIFIED LIST

* * * * *

Country | Listed person and address | Federal Register citation and date of publication
* * * * * * *
CHINA, PEOPLE'S REPUBLIC OF | * * * * *
| AECC South Industry Co., Ltd., Dongjiaduan, Lusong District, Zhuzhou, Hunan Province, China | 87 FR [INSERT FEDERAL REGISTER PAGE NUMBER] 2/8/2022.
| * * * * *
| Beijing SWT Science, Yingbinbei Road 36, Yanjiao Economic & Development Zone, Sanhe City, Hebei Province, China | 87 FR [INSERT FEDERAL REGISTER PAGE NUMBER] 2/8/2022.
| Beijing Zhonghehangxun Technology Co., Ltd., Room 1705, Kaixuancheng Building E, No. 170 Beiyuan Road, Chaoyang District, Beijing, China | 87 FR [INSERT FEDERAL REGISTER PAGE NUMBER] 2/8/2022.
| * * * * *
| China National Erzhong Group Deyang Wanhang Die Forging Co., Ltd., No. 460 Zhujiang Road West, Deyang City, Sichuan Province, China | 87 FR [INSERT FEDERAL REGISTER PAGE NUMBER] 2/8/2022.
| * * * * *
| Chuzhou HKC Optoelectronics Technology Co., Ltd., No.101 Suchu Ave., Economic and Technological Development Zone, Nanqiao District, Chuzhou, Anhui Province 239000 China | 87 FR [INSERT FEDERAL REGISTER PAGE NUMBER] 2/8/2022.
| * * * * *
| Dongguan Durun Optical Technology Co., Ltd., Building M Shing'ang Industrial Area, Houda Road, Dalingshan, Dongguan, Guangdong Province 523000, China | 87 FR [INSERT FEDERAL REGISTER PAGE NUMBER] 2/8/2022.
| Dongguan Huiqun Electronic Co., Ltd., 30 Daling Street, Jiaoyitang, Tangxia Town, Dongguan City, Guangdong Province 523723, China | 87 FR [INSERT FEDERAL REGISTER PAGE NUMBER] 2/8/2022.
| * * * * *
| Guangdong Guanghua Sci-Tech Co., No. 295 Daxue Road, Shantou, Guangdong Province, China | 87 FR [INSERT FEDERAL REGISTER PAGE NUMBER] 2/8/2022.
| * * * * *
| Guangxi Intai Technology Co., Ltd., 1 Jianan Road, Liuzhou City, Guangxi Province, China | 87 FR [INSERT FEDERAL REGISTER PAGE NUMBER] 2/8/2022.
| Guangzhou Hymson Laser Tehnology Co., Ltd., No. 2 Shiling Road, Dongchong Town, Nanshan District, Guangzhou, Guangdong Province 511453, China | 87 FR [INSERT FEDERAL REGISTER PAGE NUMBER] 2/8/2022.
| * * * * *
| Harbin Xinguang Feitian, 1717 Chuangxin Yi Road, Harbin, Heilongjiang Province, China | 87 FR [INSERT FEDERAL REGISTER PAGE NUMBER] 2/8/2022.
| Hefei Anxin Reed Precision Co., Ltd., No. 15 South Feiyang Road, Dayang Industry Park, Luyang District, Hefei City, Anhui Province 230000, China | 87 FR [INSERT FEDERAL REGISTER PAGE NUMBER] 2/8/2022.
| * * * * *
| Heshan Deren Electronic Technology Co., Ltd., No. 13 Hongjiang Road, Heshan Industry City, Heshan City, Guangdong Province 529728, China | 87 FR [INSERT FEDERAL REGISTER PAGE NUMBER] 2/8/2022.
| * * * * *
| Hubei Longchang Optical Co., Ltd., No. 4 Group Lianhuayan Village, Yaojiadian Town, Yidu City, Hubei Province 44300, China | 87 FR [INSERT FEDERAL REGISTER PAGE NUMBER] 2/8/2022.
| Hubei Sinophorus Electronic Materials Co., Ltd., No. 66-3, Xiaoting Road, Yichang, Hubei Province, China | 87 FR [INSERT FEDERAL REGISTER PAGE NUMBER] 2/8/2022.
| Hunan University, State Key Lab of Chemo/Biosensing & Chemometrics, Lushan Road, Yuelu District, Changsha, Hunan Province, China | 87 FR [INSERT FEDERAL REGISTER PAGE NUMBER] 2/8/2022.
| * * * * *
| Jinan Bodor CNC Machine Co., Ltd., 1299 Xinluo Ave., Hi-Tech Zone, Jinan, Shandong Province, China | 87 FR [INSERT FEDERAL REGISTER PAGE NUMBER] 2/8/2022.
| Jiutian Intelligent Equipment Co., Ltd., Woyun Road, Taohue Industry Park, Hefei Economic Zone, Hefei, Anhui Province, China | 87 FR [INSERT FEDERAL REGISTER PAGE NUMBER] 2/8/2022.
| * * * * *
| Kunshan Heng Rui Cheng Industrial Technology Co., Ltd., No. 1088 Datong Road, Penglang Town, Kunshan Development Zone, Kunshan, Jiangsu 215300, China | 87 FR [INSERT FEDERAL REGISTER PAGE NUMBER] 2/8/2022.
| * * * * *
| Shanghai Fansheng Optoelectronic Science & Technology Co., Ltd., No. 56 Jungong Road, Yangpu District, Shanghai, China | 87 FR [INSERT FEDERAL REGISTER PAGE NUMBER] 2/8/2022.
| * * * * *
| Shanghai Micro Electronics Equipment (Group) Co., Ltd., No. 1525 Zhangdong Road, Zhangjiang Hi-Tech Park, Pudong, Shanghai, Shanghai, China | 87 FR [INSERT FEDERAL REGISTER PAGE NUMBER] 2/8/2022.
| * * * * *
| Shuang Xiang (Fujian) Electronics, No. 158 Jiangbin East Ave., Mawei, Fuzhou, Fujian 350300, China | 87 FR [INSERT FEDERAL REGISTER PAGE NUMBER] 2/8/2022.
| * * * * *
| Southern University of Science and Technology, Department of Mechanical and Energy Engineering, 1088 Xueyuan Ave., Nanshan District, Shenzhen, Guangdong 518055, China | 87 FR [INSERT FEDERAL REGISTER PAGE NUMBER] 2/8/2022.
| * * * * *
| Suzhou Chaowei Jingna Optoelectric Co., Ltd., No. 97-1 Dongyuan Road, Jinting Town, Wuzhong District, Suzhou, Jiangsu, China | 87 FR [INSERT FEDERAL REGISTER PAGE NUMBER] 2/8/2022.
| Suzhou Gyz Electronic Technology Co., Ltd., No. 629 Songjiagang Road, Zhoushi Town, Kunshan City, Jiangsu Province 215314, China | 87 FR [INSERT FEDERAL REGISTER PAGE NUMBER] 2/8/2022.
| Suzhou Lylap Mould Technology Co., Ltd., No. 66-26 Linggang Road, Luzhi Town, Wuzhong District, Suzhou, Jiangsu Province, China | 87 FR [INSERT FEDERAL REGISTER PAGE NUMBER] 2/8/2022.
| * * * * *
| Wuxi Biologics Co., Ltd., No. 108, Warehouse, Meiliang Road, Mashan Binghu, Wuxi, China, and No. 178 West Meiliang Road, Mashan Binghu District, Wuxi, China, and No. 200 Meiling Road, Mashan Town, Binhu District, Wuxi City, China | 87 FR [INSERT FEDERAL REGISTER PAGE NUMBER] 2/8/2022.
| Wuxi Biologics (Shanghai) Co., Ltd., Room 701, 7F, No. 02 Huajing Road, Waigaoqiao Free Trade Zone, Shanghai, China, and Bldg. 71-B, 96 Yiwei Road, Waigaoqiao Free Trade Zone, Shanghai, China | 87 FR [INSERT FEDERAL REGISTER PAGE NUMBER] 2/8/2022.
| Wuxi Turbine Blade Co., Ltd., 1800 Huishan Avenue, Huishan Economic Development District, Wuxi, Jiangsu Province, China | 87 FR [INSERT FEDERAL REGISTER PAGE NUMBER] 2/8/2022.
| * * * * *
| Yunnan Fs Optics Co., Ltd., Hongta Industrial Zone, Hongta District, Yuxi, Yunnan Province, China | 87 FR [INSERT FEDERAL REGISTER PAGE NUMBER] 2/8/2022.
| Yunnan Tianhe Optoelectronic Co., Ltd., Longquan Avenue, Longquan Industrial Zone, Jiangchuan, Yuxi City, Yunnan Province, China | 87 FR [INSERT FEDERAL REGISTER PAGE NUMBER] 2/8/2022.
| * * * * *
| Zhengzhou Baiwai Intelligent Automation, National University Tech Park, Changchun Road #11 Hi-Tech District, Zhengzhou City, Henan Province, China | 87 FR [INSERT FEDERAL REGISTER PAGE NUMBER] 2/8/2022.
| * * * * *
| Zhuzhou CRRC Special Equipment Technology Co., No. 79 Liancheng Road, Shifeng District, Zhuzhou City, Hunan Province 412001, China | 87 FR [INSERT FEDERAL REGISTER PAGE NUMBER] 2/8/2022.
* * * * * * *

Thea D. Rozman Kendler,
Assistant Secretary for Export Administration.

[FR Doc. 2022-02536 Filed 2-7-22; 8:45 am]

BILLING CODE 3510-33-P